DEPARTMENT OF JUSTICE

Notice of Lodging of Proposed Consent Decree Under the Comprehensive Environmental Response, Compensation and Liability Act

On December 15, 2021, the Department of Justice lodged a proposed Consent Decree with the United States District Court for the Southern District of Texas in the lawsuit entitled United States v. Sea Lion Chemical Technology, Inc. and Sea Lion, Inc., Case No. 3:21-cv-347. The proposed Consent Decree resolves the United States' claims, on behalf of the Environmental Protection Agency, under Section 107(a) of the Comprehensive Environmental Response, Compensation, and Liability Act (“CERCLA”), 42 U.S.C. 9607(a), against Sea Lion Chemical Technology, Inc. and its parent Sea Lion, Inc. (collectively “Sea Lion”) for their liability at the Malone Service Company Superfund Site (the “Site”) located in Texas City, Galveston County, Texas. Under the proposed settlement, Sea Lion has agreed to pay $2,987,353.53 to resolve its liability.

The publication of this notice opens a period for public comment on the Consent Decree. Comments should be addressed to the Assistant Attorney General, Environment and Natural Resources Division, and should refer to United States v. Sea Lion Chemical Technology, Inc. and Sea Lion, Inc., Case No. 3:21-cv-347, D.J. Ref. No. 90-11-2-07465/8. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $6.25 (25 cents per page reproduction cost) payable to the United States Treasury.

Thomas Carroll,
Assistant Section Chief, Environmental Enforcement Section, Environment and Natural Resources Division.

[FR Doc. 2021-28027 Filed 12-23-21; 8:45 am]

BILLING CODE 4410-15-P